DEPARTMENT OF THE TREASURY

Public Meeting of the President's Advisory Council on Financial Capability for Young Americans

AGENCY: Department of the Treasury.

ACTION: Notice of meeting.

SUMMARY: The President's Advisory Council on Financial Capability for Young Americans (Council) will convene for a public meeting on June 17, 2015 at 3:00 p.m. Eastern Time via teleconference. The teleconference will be open to the public. Details about how to access the teleconference are posted on the Council's Web site at http://www.treasury.gov/pacfcya.

DATES: The meeting will be held on June 17, 2015, at 3:00 p.m. Eastern Time.

Submission of Written Statements: The public is invited to submit written statements to the Council. Written statements should be sent by any one of the following methods:

Electronic Statements

Email: pacfcya@treasury.gov; or

Paper Statements

Send paper statements to the Department of the Treasury, Office of Consumer Policy, Main Treasury Building, 1500 Pennsylvania Avenue NW., Washington, DC 20220.

In general, the Department will make all statements available in their original format, including any business or personal information provided such as names, addresses, email addresses, or telephone numbers, for public inspection and photocopying in the Department's library located at Treasury Department Annex, 1500 Pennsylvania Avenue NW., Washington, DC 20220. The library is open on official business days between the hours of 10:00 a.m. and 5:00 p.m. You can make an appointment to inspect statements by calling (202) 622-0990. All statements received, including attachments and other supporting materials, are part of the public record and subject to public disclosure. You should only submit information that you wish to make publicly available.

FOR FURTHER INFORMATION CONTACT: Louisa Quittman, Director, Financial Education, Office of Consumer Policy, Department of the Treasury, 1500 Pennsylvania Avenue NW., Washington, DC 20220, at (202) 622-5770 or pacfcya@treasury.gov.

SUPPLEMENTARY INFORMATION: On June 25, 2013, the President signed Executive Order 13646, creating the Council to help build the financial capability of young people at an early age, in schools, communities and the workplace. Having a basic understanding of money management at an early age will make our young people better equipped to tackle more complex financial decisions in their transition to adulthood, when critical decisions about financing higher education and saving for retirement can have lasting consequences for financial security. Strengthening the financial capability of our young people is an investment in our nation's economic prosperity. The Council is composed of three ex officio federal officials as well as 22 non-governmental members appointed by the President with relevant backgrounds, such as financial services and education. The role of the Council is to advise the President and the Secretary of the Treasury on means to promote and enhance the financial capability of young Americans. In accordance with section 10(a) of the Federal Advisory Committee Act, 5 U.S.C. App. 2 and the regulations thereunder, Louisa Quittman, Designated Federal Officer of the Council, has ordered publication of this notice that the Council will convene its fourth meeting on June 17, 2015 via teleconference beginning at 3:00 p.m. Eastern Time. Members of the public can access this teleconference through Treasury's Office of Consumer Policy Web site at http://www.treasury.gov/pacfcya. Documents that will be discussed during the meeting will be posted on the Council's Web site at http://www.treasury.gov/pacfcya on the day of the meeting. During this meeting, the Council will (i) vote on the final recommendations of the Council, and (ii) make announcements. Due to the significant logistical difficulties of scheduling the PACFCYA meeting, this meeting has been scheduled with less than 15 days' notice, (see 41 CFR 102-3.150(b)).

David G. Clunie,
Executive Secretary, Department of the Treasury.

[FR Doc. 2015-13913 Filed 6-5-15; 8:45 am]

BILLING CODE 4810-25-P